DEPARTMENT OF DEFENSE

Department of the Air Force

Notice of Intent to Prepare an Environmental Impact Statement for the Air Education and Training Command Common Battlefield Airman Training Program

AGENCY: Department of the Air Force, Air Education and Training Command.

ACTION: Notice of intent.

SUMMARY: In accordance with the National Environmental Policy Act of 1969 (NEPA, 42 United States Code [U.S.C.] 4321-4347), the Council on Environmental Quality (CEQ) NEPA Regulations (40 Code of Federal Regulations [CFR] Parts 1500-1508), and the United States Air Force's (USAF) Environmental Impact Analysis Process (EIAP, 32 CFR Part 989), the Air Force is preparing an EIS to consider the proposed action of establishing the CBAT program. This NOI describes the Air Force's proposed alternatives, scoping process, and identifies the Air Force's point of contact. As part of the proposal, the Air Force will analyze potential environmental impacts associated with the proposed development of administrative, instructional, and living areas (referred to as the CBAT Campus) for CBAT students and instructors, as well as utilization of areas for ground training operations.

Purpose: The purpose of this action is for AETC to establish a CBAT course in order to further expand ground combat skills and give all Airmen a baseline or common skill set. The course would be implemented in three Phases, beginning with Phase I, which would train approximately 1,353 Airmen. Phase II would add 6,365 students, and Phase III provides training for an additional 6,692 Airmen. Full implementation of CBAT would result in training approximately 14,410 Airmen annually in combat small arms firing, basics of land navigation, small unit tactics, and combative skills, along with a daily physical training regimen. The average daily number of personnel that would be present for CBAT at full implementation (to include instructors, base support, and students) would be approximately 2,600. CBAT would be held year-round, with each course lasting 25 days, 10 hours per day, Monday through Friday. Throughout the initial implementation of each phase, personnel, facilities and infrastructure, and field training areas would be added to the selected installation. The end of Phase III would include a total of 166 new buildings at 124,192 square meters added to the installation. Additionally, by Phase III, approximately 9,000 acres (approximately 36.5 square km) of land would be required for CBAT field training in standardized basic small unit tactics, such as how to react to an enemy ambush (which would include the use of blank-fire ammunition and simulated munitions) and practical day and night land navigation training.

Alternatives: The Air Force used a multi-disciplined team (e.g., trainers, civil engineers, environmental engineers, and attorneys) to develop criteria for choosing where the CBAT course would be located. Applying the selection criteria in stages narrowed the alternatives first to 64 and later to just 3 Air Force installations located within the Continental United States. Those 3 installations are Arnold Air Force Base (AFB) in Tennessee, Barksdale AFB in Louisiana, and Moody AFB in Georgia. These three bases and the no action alternative are the alternatives that will be evaluated in the EIS. There is sufficient area on Arnold AFB and Barksdale AFB to support the campus and field training areas. There is insufficient land available to support the field training requirements on Moody AFB, so selection of Moody would necessitate acquiring additional land by purchase or lease. The no action alternative will evaluate current conditions and trends, projected into the future, for comparative purposes.

Scoping: In order to effectively define the full range of issues to be evaluated in the EIS, the Air Force will determine the scope of the document (i.e., what will be covered, and in what detail) by soliciting scoping comments from interested state and Federal agencies and the interested public via this Federal Register and notices in the local areas of concern. Comments should be forwarded to the address below, by the date indicated. The Air Force will also hold a series of scoping meetings to further solicit input concerning the scope of the proposed action and alternatives.

DATES: The scheduled dates, times, locations, and addresses for the scoping meetings are as follows:

1. December 5, 2006—Tuesday, 6-8 pm; Tullahoma, TN; Coffee County Administrative Plaza, Community Room, 1329 MacArthur Street, Manchester, TN.

2. December 7, 2006—Thursday, 6-8 pm; Valdosta, GA; Valdosta City Hall Annex 300 N. Lee St., Valdosta, GA.

3. December 12, 2006—Tuesday, 6-8 pm; Shreveport, LA; Holiday Inn, 2015 Old Minden Road, Bossier City, LA.

No additional scoping meetings are scheduled at this time. In addition to comments received at the scoping meetings, any written comments on the scope of the EIS received at the address below by December 16, 2006, will be considered in the preparation of this EIS. All comments received through the scoping process will be evaluated and adjudicated to identify which issues are in fact significant and which ones are not. Issues that are determined to be less important will be addressed in the EIS by a brief discussion of why they were not examined in depth.

FOR FURTHER INFORMATION CONTACT: Ms. Debra Harkiewicz, HQ AETC/A7CVI, 266 F Street West, Bldg 901, Randolph, AFB, TX 78150, (210) 652-3959.

Bao-Anh Trinh,
Air Force Federal Register Liaison Officer.

[FR Doc. E6-19143 Filed 11-13-06; 8:45 am]

BILLING CODE 5001-05-P